DEPARTMENT OF HOMELAND SECURITY

Coast Guard

[Docket No. USCG-2022-0103]

Notification of the Removal of Conditions of Entry on Vessels Arriving From Cote d'Ivoire

AGENCY: Coast Guard, DHS.

ACTION: Notice.

SUMMARY: The Coast Guard announces that it is removing the conditions of entry on vessels arriving from the country of Cote d'Ivoire. Based on the results of the most recent country visit, the Coast Guard has determined that Cote d'Ivoire is now substantially implementing the International Ship and Port Facility Security Code and has effective anti-terrorism measures in place.

DATES: The policy announced in this notice is effective August 2, 2022

FOR FURTHER INFORMATION CONTACT: For information about this document call or email J.J. Hudson, Chief, Office of International and Domestic Port Security, United States Coast Guard, telephone 202-372-1173, Juliet.J.Hudson@uscg.mil.

SUPPLEMENTARY INFORMATION:

Background and Purpose

The authority for this notice is 5 U.S.C. 552(a) (“Administrative Procedure Act”), 46 U.S.C. 70110 (“Maritime Transportation Security Act of 2002”), and Department of Homeland Security Delegation No. 00170.1, Revision No. 01.3 (II)(97.f). As delegated, section 70110(a) authorizes the Coast Guard to impose conditions of entry on vessels arriving in U.S. waters from ports that the Coast Guard has not found to maintain effective anti-terrorism measures.

In 2011, the Coast Guard determined that effective anti-terrorism measures were not in place in the ports of Cote d'Ivoire. Accordingly, conditions of entry were imposed on vessels arriving from Cote d'Ivoire. Based on recent assessments, the Coast Guard has determined that Cote d'Ivoire is maintaining effective anti-terrorism measures, and the Coast Guard is, accordingly, removing the conditions of entry announced in previously published Notices. With this notice, the current list of countries assessed and not maintaining effective anti-terrorism measures is as follows: Cambodia, Cameroon, Comoros, Djibouti, Equatorial Guinea, The Gambia, Guinea-Bissau, Iran, Iraq, Libya, Madagascar, Micronesia, Nauru, Nigeria, Republic of Seychelles, Sao Tome and Principe, Syria, Timor-Leste, Venezuela, and Yemen. The current Port Security Advisory is available at: http://www.dco.uscg.mil/Our-Organization/Assistant-Commandant-for-Prevention-Policy-CG-5P/International-Domestic-Port-Assessment/.

Dated: August 3, 2022.
Peter W. Gautier,
Vice Admiral, U.S. Coast Guard, Deputy Commandant for Operations.

[FR Doc. 2022-17372 Filed 8-11-22; 8:45 am]

BILLING CODE 9110-04-P